NATIONAL TRANSPORTATION SAFETY BOARD

Sunshine Act Meeting

Time and Date: 9:30 a.m., April 15, 2008.

Place: NTSB Conference Center, 429 L'Enfant Plaza, SW., Washington, DC 20594.

Status: The one item is open to the public.

Matter to be Considered: 8002 Aircraft Accident Report—

Runway Overrun During Landing, Shuttle America, Inc., doing business as Delta Connection Flight 6448, Embraer ERJ-170, N862RW, Cleveland, Ohio, February 18, 2007.

News Media Contact: Telephone: (202) 314-6100: Individuals requesting specific accommodations should contact Chris Bisett at (202) 314-6305 by Friday, April 11, 2008.

The public may view the meeting via a live or archived webcast by accessing a link under “News & Events” on the NTSB home page at http://www.ntsb.gov.

For More Information Contact: Vicky D'Onofrio, (202) 314-6410.

Dated: April 4, 2008.
Vicky D'Onofrio,
Federal Register Liaison Officer.

[FR Doc. E8-7479 Filed 4-9-08; 8:45 am]

BILLING CODE 7533-01-M